DEPARTMENT OF THE INTERIOR

Bureau of Land Management

[NV-930-1430-ET; N-83588; 7-08807]

Notice of Proposed Withdrawal and Opportunity for Public Meeting; Nevada

AGENCY: Bureau of Land Management, Interior.

ACTION: Notice.

SUMMARY: The Secretary of the Interior proposes to withdraw approximately 58.65 acres of public land from location and entry under the United States mining laws for a period of 20 years to protect Porter Spring, in Pershing County, Nevada. This notice segregates the land from location and entry under the United States mining laws for up to 2 years while various studies and analyses are made to support a final decision on the withdrawal application.

DATES: Comments and requests for a public meeting must be received by January 28, 2008.

ADDRESSES: Comments and meeting requests should be sent to the Field Manager, BLM, Winnemucca Field Office, 5100 East Winnemucca Boulevard, Winnemucca, Nevada 89445.

FOR FURTHER INFORMATION CONTACT: Jacqueline M. Gratton, BLM Nevada State Office, 775-861-6532.

SUPPLEMENTARY INFORMATION: The applicant is the Bureau of Land Management (BLM) at the address stated above. The application requests the Secretary of the Interior to withdraw, for a period of 20 years and subject to valid existing rights, the following described public land from location and entry under the United States mining laws, but not the mineral leasing laws:

Mount Diablo Meridian

T. 29 N., R. 28 E.,

Sec. 5, S½ of lot 3 and SE¼NW¼.

The area described contains approximately 58.65 acres in Pershing County.

The BLM petition/application has been approved by the Assistant Secretary, Land and Minerals Management. Therefore, it constitutes a withdrawal proposal of the Secretary of the Interior (43 CFR 2310.1-3(e)).

The use of a right-of-way, interagency agreement, or cooperative agreement would not adequately constrain non-discretionary uses that could irrevocably affect migratory bird habitat.

There are no suitable alternative sites, since the land described contains the resources that need protection.

No water rights will be needed to fulfill the purpose of the withdrawal.

The potential for locatable minerals is considered to be low.

The purpose of the withdrawal is to protect spring water quality and quantity, to preserve the existing trees and riparian vegetation, to maintain and improve migratory bird habitat, and to maintain and encourage use of a valuable recreation site. Porter Spring is an important stopover for migratory birds traveling to and from Central and South America.

The application will be processed in accordance with the regulations set forth in 43 CFR part 2300.

Records relating to the application may be examined by interested parties at the address of the BLM office stated above.

For a period of 90 days from the date of publication of this notice, all persons who wish to submit comments, suggestions, or objections in connection with the proposed withdrawal may present their views in writing to the BLM Winnemucca Field Office, at the address noted above. Facsimiles, telephone calls, and electronic mails are unacceptable means of notification.

Comments including names and street addresses of respondents will be available for public review at the Winnemucca Field Office, 5100 East Winnemucca Boulevard, Winnemucca, Nevada, during regular business hours, 7:30 a.m. to 4:30 p.m., Monday through Friday, except holidays. Before including your address, phone number, e-mail address, or other personal identifying information in your comments be advised that your entire comment—including your personal identifying information—may be made publicly available at any time. While you can ask us in your comment to withhold your personal identifying information from public review, we cannot guarantee that we will be able to do so.

Notice is hereby given that an opportunity for a public meeting is afforded in connection with the proposed withdrawal. All interested persons who desire a public meeting for the purpose of being heard on the proposed withdrawal must submit a written request to the BLM Winnemucca Field Manager no later than January 28, 2008. If the authorized officer determines that a public meeting will be held, a notice of the time, place, and date will be published in the Federal Register and a local newspaper at least 30 days before the scheduled date of the meeting.

For a period of 2 years from the date of publication of this notice in the Federal Register, the public land will be segregated as specified above unless the application is denied or cancelled or the withdrawal is approved prior to that date.

Licenses, permits, cooperative agreements, or discretionary land use authorizations of a temporary nature which will not significantly impact the values to be protected by the withdrawal may be allowed with the approval of the authorized officer of the BLM during the segregative period.

Authority: 43 CFR 2310.3-1(a).

Dated: October 23, 2007.
Michael R. Holbert,
Deputy State Director, Natural Resources, Lands, and Planning.

[FR Doc. E7-21259 Filed 10-26-07; 8:45 am]

BILLING CODE 4310-HC-P